DEPARTMENT OF TRANSPORTATION

Federal Aviation Administration

14 CFR Part 39

[Docket No. FAA-2005-20881; Directorate Identifier 2004-NM-253-AD]

RIN 2120-AA64

Airworthiness Directives; Various Transport Category Airplanes Manufactured by McDonnell Douglas

AGENCY: Federal Aviation Administration (FAA), Department of Transportation (DOT).

ACTION: Notice of proposed rulemaking (NPRM).

SUMMARY: The FAA proposes to revise an existing airworthiness directive (AD) that applies to various transport category airplanes manufactured by McDonnell Douglas. The existing AD currently requires a one-time test of the fire extinguishers for the engine and auxiliary power unit (APU), as applicable, to determine the capability of the Firex electrical circuits to fire discharge cartridges, and troubleshooting actions if necessary. This proposed AD would remove certain transport category airplanes from the applicability of the existing AD. This proposed AD is prompted by reports indicating that fire extinguishers for the engine and auxiliary power unit had failed to discharge when commanded. We are proposing this AD to prevent failure of the fire extinguishers to fire discharge cartridges, which could result in the inability to put out a fire in an engine or in the APU.

DATES: We must receive comments on this proposed AD by May 26, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street SW., room PL-401, on the plaza level of the Nassif Building, Washington, DC. This docket number is FAA-2005-20881; the directorate identifier for this docket is 2004-NM-253-AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Comments Invited

We invite you to submit any relevant written data, views, or arguments regarding this proposed AD. Send your comments to an address listed under ADDRESSES. Include “Docket No. FAA-2005-20881; Directorate Identifier 2004-NM-253-AD-” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in a docket, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On August 12, 2003, we issued AD 2003-17-07, amendment 39-13281 (68 FR 50058, August 20, 2003), for various transport airplanes manufactured by McDonnell Douglas. That AD requires a one-time test of the fire extinguishers for the engine and auxiliary power unit (APU), as applicable, to determine the capability of the Firex electrical circuits to fire discharge cartridges, and troubleshooting actions if necessary. That AD was prompted by reports indicating that fire extinguishers for the engine and the auxiliary power unit (APU) had failed to discharge when commanded on a McDonnell Douglas Model DC-9-81 airplane and a Model DC-9-33F airplane. We issued that AD to prevent failure of the fire extinguishers to fire discharge cartridges, which could result in the inability to put out a fire in an engine or in the APU.

Actions Since Existing AD Was Issued

Since we issued AD 2003-17-07, we have reviewed the service bulletins specified in that AD, and have determined that, for one of the appropriately referenced service bulletins, the effectivity differs from the applicability of the AD. Specifically, McDonnell Douglas Alert Service Bulletin (ASB) DC10-26A050, dated July 31, 2000, includes a “Note” in Section 1. Planning Information of the ASB that specifies that the “service bulletin is not applicable to MD-10 airplanes.” We have verified with the manufacturer that the ASB does not affect Model MD-10 airplanes and have removed reference to Model MD-10-10F and MD-10-30F airplanes in the applicability of this proposed AD.

FAA's Determination and Requirements of the Proposed AD

We have evaluated all pertinent information and identified an unsafe condition that is likely to exist or develop on other products of this same type design. This proposed AD would revise AD 2003-17-07. This proposed AD would retain the requirements of the existing AD. This proposed AD would remove certain airplanes from the applicability of the AD.

Change to Existing AD

This proposed AD would retain all requirements of AD 2003-17-07. Since AD 2003-17-07 was issued, the AD format has been revised, and certain paragraphs have been rearranged. As a result, the corresponding paragraph identifiers have changed in this proposed AD, as listed in the following table:

Revised Paragraph Identifiers
Requirement in AD 2003-17-07 | Corresponding requirement in this proposed AD
Paragraph (a) | Paragraph (f).
Paragraph (b) | Paragraph (g).
Paragraph (c) | Paragraph (h).
Paragraph (d) | Paragraph (i).

Costs of Compliance

There are about 3,311 airplanes of the affected design in the worldwide fleet. This proposed AD would affect about 1,520 airplanes of U.S. registry.

The actions that are required by AD 2003-17-07 and retained in this proposed AD take between 4 work hours and 7 work hours per airplane, at an average labor rate of $65 per work hour. Based on these figures, the estimated cost of the currently required actions is estimated to be between $395,200, and $691,600, on U.S. operators, or between $260 and $455 per airplane.

This proposed AD does not add any new actions to the existing actions required by AD 2002-17-07. Since the proposed AD would remove certain airplanes from the applicability of the AD, the total estimated cost of compliance of the AD for U.S. operators is actually reduced from the existing AD. However, the estimated cost of compliance per airplane would remain the same as the existing AD.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13281 (68 FR 50058, August 20, 2003) and adding the following new airworthiness directive (AD):

McDonnell Douglas: Docket No. FAA-2005-20881; Directorate Identifier 2004-NM-253-AD.

Comments Due Date

(a) The Federal Aviation Administration must receive comments on this AD action by May 26, 2005.

Affected ADs

(b) This AD revises AD 2003-17-07, amendment 39-13281 (68 FR 50058, August 20, 2003).

Applicability

(c) This AD applies to the airplanes listed in Table 1 of this AD, certificated in any category. Table 1 of this AD follows:

Table 1.—Applicability
McDonnell Douglas Models | As listed in
Model DC-8-11, DC-8-12, DC-8-21, DC-8-31, DC-8-32, DC-8-33, DC-8-41, DC-8-42, and DC-8-43 airplanes; DC-8-51, DC-8-52, DC-8-53, and DC-8-55 airplanes; DC-8F-54 and DC-8F-55 airplanes; DC-8-61, DC-8-62, and DC-8-63 airplanes; DC-8-61F, DC-8-62F, and DC-8-63F airplanes; DC-8-71, DC-8-72 and DC-8-73 airplanes; DC-8-71F, DC-8-72F, and DC-8-73F airplanes | Boeing Alert Service Bulletin DC8-26A042, including Appendix A, dated January 31, 2002.
Model DC-9-11, DC-9-12, DC-9-13, DC-9-14, DC-9-15, and DC-9-15F airplanes; DC-9-21 airplanes; DC-9-31, DC-9-32, DC-9-32 (VC-9C), DC-9-32F, DC-9-33F, DC-9-34, DC-9-34F, and DC-9-32F (C-9A, C-9B) airplanes; DC-9-41 airplanes; DC-9-51 airplanes; DC-9-81 (MD-81), DC-9-82 (MD-82), DC-9-83 (MD-83), and DC-9-87 (MD-87) airplanes; and MD-88 airplanes | McDonnell Douglas Alert Service Bulletin DC9-26A029, Revision 01, dated May 8, 2001.
Model DC-10-10 and DC-10-10F airplanes; DC-10-15 airplanes; DC-10-30 and DC-10-30F (KC10A and KDC-10) airplanes; DC-10-40 and DC-10-40F airplanes; | McDonnell Douglas Alert Service DC10-26A050, dated July 31, 2000.
Model MD-11 and MD-11F airplanes | McDonnell Douglas Alert Service Bulletin MD11-26A039, Revision 01, dated November 21, 2002.
Model MD-90-30 airplanes | McDonnell Douglas Alert Service Bulletin MD90-26A005, dated July 31, 2000.

Unsafe Condition

(d) This AD was prompted by reports indicating that fire extinguishers for the engine and the auxiliary power unit (APU) had failed to discharge when commanded on a McDonnell Douglas Model DC-9-81 airplane and a Model DC-9-33F airplane. We are issuing this AD to prevent failure of the fire extinguishers to fire discharge cartridges, which could result in the inability to put out a fire in an engine or in the APU.

Compliance

(e) You are responsible for having the actions required by this AD performed within the compliance times specified, unless the actions have already been done.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Testing the Firex Electrical Circuits

(f) Within 18 months after the accumulation of 15,000 total flight hours, or within 18 months after September 24, 2003 (the effective date of AD 2003-17-07, amendment 39-13281), whichever occurs later: Test the capability of the electrical circuits of the Firex fire extinguishers for the engine and the APU, as applicable, per the applicable alert service bulletin (ASB) listed in Table 1 of this AD.

(1) For any airplane equipped with an APU: If any electrical circuit of the Firex fire extinguishers for the APU does not pass the testing, before further flight, accomplish the troubleshooting procedures specified in the applicable ASB. Dispatch with an inoperative APU is permitted for the amount of time specified in the Minimum Equipment List. Dispatch after that time is not permitted until the circuits are repaired per the Boeing Standard Wiring Practices Manual (SWPM) D6-82481.

(2) For all airplanes: If any electrical circuit of the Firex fire extinguishers for the engine does not pass the testing, before further flight, accomplish the troubleshooting procedures specified in the applicable ASB, and repair per SWPM D6-82481. Dispatch is not permitted until the circuits have been repaired.

Actions Accomplished per Previous Issue of Service Bulletins

(g) Tests and troubleshooting procedures accomplished before the effective date of this AD per McDonnell Douglas Alert Service Bulletin DC9-26A029, dated July 27, 2000; or MD11-26A039, dated July 31, 2000; are considered acceptable for compliance with the corresponding action specified in paragraph (f) of this AD.

Alternative Methods of Compliance

(h) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(i) Special flight permits may be issued in accordance with sections 21.197 and 21.199 of the Federal Aviation Regulations (14 CFR 21.197 and 21.199) to operate the airplane to a location where the requirements of this AD can be accomplished.

Issued in Renton, Washington, on April 1, 2005.
Kalene C. Yanamura,
Acting Manager, Transport Airplane Directorate, Aircraft Certification Service.

[FR Doc. 05-7153 Filed 4-8-05; 8:45 am]

BILLING CODE 4910-13-P